DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Children's Hospitals Graduate Medical Education Payment Program (CHGME) (OMB No. 0915-0247): Revision

The CHGME Payment Program was enacted by Public Law 106-129 to provide Federal support for graduate medical education (GME) to “freestanding” children's hospitals. This legislation attempts to provide support for GME comparable to the level of Medicare GME support received by other, non-children's hospitals. The legislation indicates that eligible children's hospitals will receive payments for both direct and indirect medical education. Direct payments are designed to offset the expenses associated with operating approved graduate medical residency training programs and indirect payments are designed to compensate hospitals for expenses associated with the treatment of more severely ill patients and the additional costs relating to teaching residents in such programs.

Technical assistance workshops and consultation with applicant hospitals resulted in an opportunity for hospital representatives to raise issues and provide suggestions resulting in proposed revisions in the CHGME application forms and instructions.

Eligible children's teaching hospitals submit relevant data such as weighted and unweighted full-time equivalent (FTE) resident counts, inpatient discharges and case mix index information by which direct and indirect payments are made to the participating hospitals. Data are submitted by children's hospitals in an annual CHGME application in order to receive funding. Through a reconciliation process, participating hospitals are required to correct and furnish final FTE resident count numbers reflecting changes in counts reported in the annual application form. The reconciliation process begins with fiscal year (FY)2002 and occurs before the end of the fiscal year.

The estimated burden is as follows:

Form | Number of respondents | Responses per respondents | Hours per response | Total burden hours
HRSA 99-1 | 60 | 1 | 24 | 1,440
HRSA 99-1 (Reconciliation) | 60 | 1 | 8 | 480
HRSA 99-2 | 60 | 1 | 14 | 840
HRSA 99-4 | 60 | 1 | 14 | 840
Total | 60 |  |  | 3,600

Send comments to Susan G. Queen, Ph.D., HRSA Reports Clearance Officer, Room 14-22, Parklawn Building, 5600 Fishers Lane, Rockville, MD 20857. Written comments should be received within 60 days of this notice.

Dated: November 15, 2001.
Jane M. Harrison,
Director, Division of Policy Review and Coordination.

[FR Doc. 01-29058 Filed 11-20-01; 8:45 am]

BILLING CODE 4165-15-P